DEPARTMENT OF LABOR

Occupational Safety and Health Administration

[Docket No. ICR-1218-0150 (2004)]

Control of Hazardous Energy (Lockout/Tagout) Standard; Extension of the Office of Management and Budget's Approval of Information-Collection (Paperwork) Requirements

AGENCY: Occupational Safety and Health Administration (OSHA), Labor.

ACTION: Request for comment.

SUMMARY: OSHA solicits comments concerning its proposal to extend OMB approval of the information-collection requirements contained in the Control of Hazardous Energy (Lockout/Tagout) Standard (29 CFR 1910.147). The Standard regulates control of hazardous energy using lockout or tagout procedures while employees service, maintain, or repair machines or equipment when activation, start up, or release of energy from an energy source is possible.

DATES: Comments must be submitted by the following dates:

Hard copy: Your comments must be submitted (postmarked or received) by May 10, 2004.

Facsimile and electronic transmission: Your comments must be received by May 10, 2004.

ADDRESSES:

I. Submission of Comments

Regular mail, express delivery, hand delivery, and messenger service: Submit your comments and attachments to the OSHA Docket Office, Docket No. ICR 1218-0150(2004), Room N-2625, U.S. Department of Labor, 200 Constitution Avenue, NW., Washington, DC 20210. OSHA Docket Office and Department of Labor hours of operation are 8:15 a.m. to 4:45 p.m., e.s.t.

Facsimile: If your comments, including any attachments, are 10 pages or fewer, you may fax them to the OSHA Docket Office at (202) 693-1648. You must include the docket number of this document, Docket Number ICR 1218-0150(2004), in your comments.

Electronic: You may submit comments, but not attachments, through the Internet at http://ecomments.osha.gov/.

II. Obtaining Copies of the Supporting Statement for the Information Collection Request

The Supporting Statement for the Information Collection Request is available for downloading from OSHA's Web site at http://www.osha.gov. The Supporting Statement is available for inspection and copying in the OSHA Docket Office at the address listed above. A printed copy of the Supporting Statement can be obtained by contacting Theda Kenney at (202) 693-2222.

FOR FURTHER INFORMATION CONTACT: Todd Owen or Theda Kenney, Directorate of Standards and Guidance, OSHA, U.S. Department of Labor, Room N-3609, 200 Constitution Avenue, NW., Washington, DC 20210; telephone (202) 693-2222.

SUPPLEMENTARY INFORMATION:

I. Submission of Comments on This Notice and Internet Access to Comments and Submissions

You may submit comments in response to this document by (1) hard copy, (2) fax transmission (facsimile), or (3) electronically through the OSHA Web page. Please note you cannot attach materials such as studies or journal articles to electronic comments. When you have additional materials, you must submit three copies of them to the OSHA Docket Office at the address above. The additional materials must clearly identify your electronic comments by name, date, subject and docket number so we can attach them to your comments. Because of security-related problems, a significant delay may occur in the receipt of comments by regular mail. Please contact the OSHA Docket Office at (202) 693-2350 for information about security procedures concerning the delivery of materials by express delivery, hand delivery and messenger service.

II. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)).

This program ensures that information is in the desired format, reporting burden (time and costs) is minimized, collection instruments are understandable, and OSHA's estimate of the information-collection burden is correct. The Occupational Safety and Health Act of 1970 (the Act) authorizes information collection by employers as necessary or appropriate for enforcement of the Act or for developing information regarding the causes and prevention of occupational injuries, illnesses, and accidents (29 U.S.C. 657).

The Standard specifies several paperwork requirements. The following sections describe who uses the information collected under each requirement, as well as how they use it. The purpose of these requirements is to control the release of hazardous energy while employees service, maintain, or repair machines or equipment when activation, start up, or release of energy from an energy source is possible; proper control of hazardous energy prevents death and serious injury among these employees.

Energy-Control Procedure (paragraph (c)(4)(i)). With limited exception, employers must document the procedures used to isolate from its energy source, and render inoperative, any machine or equipment prior to servicing, maintenance, or repair by employees. These procedures are necessary when activation, start up, or release of stored energy from the energy source is possible, and such release could cause injury to the employees.

Paragraph (c)(4)(ii) states that the required documentation must clearly and specifically outline the scope, purpose, authorization, rules, and techniques employees are to use to control hazardous energy, and the means to enforce compliance. The document must include at least the following elements: A specific statement regarding the use of the procedure; detailed procedural steps for shutting down, isolating, blocking, and securing machines or equipment to control hazardous energy, and for placing, removing, and transferring lockout or tagout devices, including the responsibility for doing so; and requirements for testing a machine or equipment to determine and verify the effectiveness of lockout or tagout devices, as well as other energy-control measures.

The employer uses the information in this document as the basis for informing and training employees about the purpose and function of the energy-control procedures, and the safe application, use, and removal of energy controls. In addition, this information enables employers to effectively identify operations and processes in the workplace that require energy-control procedures.

Periodic Inspection (c)(6)(ii). Under paragraph (c)(6)(i), employers are to conduct inspections of energy-control procedures at least annually. An authorized employee (other than an authorized employee using the energy-control procedure that is the subject of the inspection) is to conduct the inspection and correct any deviations or inadequacies identified. For procedures involving either lockout or tagout, the inspection must include a review, between the inspector and each authorized employee, of that employee's responsibilities under the procedure; for procedures using tagout systems, the review also involves affected employees, and includes an assessment of the employees' knowledge of the training elements required for these systems. Paragraph (c)(6)(ii) requires employers to certify the inspection by documenting the date of the inspection, and identifying the machine or equipment and the employee who performed the inspection.

Training and Communication (c)(7)(iv). Paragraph (c)(7)(i) specifies that employers must establish a training program that enables employees to understand the purpose and function of the energy-control procedures, and provides them with the knowledge and skills necessary for the safe application, use, and removal of energy controls. According to paragraph (c)(7)(ii), employers are to ensure that: Authorized employees recognize the applicable hazardous-energy sources, the type and magnitude of the energy available in the workplace, and the methods and means necessary for energy isolation and control; affected employees obtain instruction in the purpose and use of the energy-control procedure; and other employees who work, or may work, near operations using the energy-control procedure receive training about the procedure, as well as the prohibition regarding attempts to restart or reactivate machines or equipment having locks or tags to control energy release.

When the employer uses a tagout system, the training program must inform employees that: Tags are warning labels affixed to energy-isolating devices, and therefore do not provide the physical restraint on those devices that locks do; they are not to remove tags attached to an energy-isolating devices unless permitted to do so by the authorized employee responsible for the tag, and they are never to bypass, ignore, or in any manner defeat the tagout system; tags must be legible and understandable by authorized and affected employees, as well as other employees who work, or may work, near operations using the energy-control procedure; the materials used for tags, including the means of attaching them, must withstand the environmental conditions encountered in the workplace; tag evoke a false sense of security, and employees must understand that tags are only part of the overall energy-control program; and they must attach tags securely to energy-isolating devices to prevent removal of the tags during use.

Paragraph (c)(7)(iii) states that employers must retrain authorized and affected employees when a change occurs in: Their job assignments, the machines, equipment, or processes such that a new hazard is present; and the energy-control procedures. Employers also must provide retaining when they have reason to believe, or periodic inspection required under paragraph (c)(6) indicates, that deviations and inadequacies exist in an employee's knowledge or use of energy-control procedures. The retraining must reestablish employee proficiency and, if necessary, introduce new or revised energy-control procedures.

Under paragraph (c)(7)(iv), employers are to certify that employees completed the required training, and that this training is up-to-date. The certification is to contain each employee's name and the training date.

Training employees to recognize hazardous-energy sources and to understand the purpose and function of the energy-control procedures, and providing them with the knowledge and skills necessary to implement safe application, use, and removal of energy controls, enables them to prevent serious accidents by using appropriate control procedures in a safe manner to isolate these hazards. In addition, written certification of the training assures the employer that employees receive the training specified by the Standard, at the required frequencies.

Notification of Employees (paragraph (c)(9)). This provision requires the employer to notify affected employees prior to applying, and after removing, a lockout or tagout device from a machine or equipment. Such notification informs employees of the impending interruption of the normal production operation, and serves as a reminder of the restrictions imposed on them by the energy-control program. In addition, this requirement ensures that employees do not attempt to reactivate a machine or piece of equipment after an authorized employee isolates its energy source and renders it inoperative. Notifying employees after removing an energy-control device alerts them that the machines and equipment are no longer safe for servicing, maintenance, and repair.¹

¹ Paragraph (e)(2) requires similar notification; because of this similarity, the Agency is taking no burden hours or cost for this provision.

Outside Personnel (Contractors, etc.) (paragraph (f)(2)(i)). When the onsite employer uses an offsite employer (e.g., a contractor) to perform the activities covered by the scope and application of the Standard, the two employers must inform each other regarding their respective lockout or tagout procedures. This provision ensures that onsite employers know about the unique energy-control procedures used by an offsite employer; this knowledge prevents any misunderstanding regarding the implementation of lockout or tagout procedures, including the use of lockout or tagout devices for a particular application.

Disclosure of Inspection and Training Certification Records (paragraphs (c)(6)(ii) and (c)(7)). The inspection records provide employers with assurance that employees can safely and effectively service, maintain, and repair machines and equipment covered by the Standard. These records also provide the most efficient means for an OSHA compliance officer to determine that an employer is complying with the Standard, and that the machines and equipment are safe for servicing, maintenance, and repair. The training records provide the most efficient means for an OSHA compliance officer to determine whether an employer has performed the required training at the necessary and appropriate frequencies.

III. Special Issues for Comment

OSHA has a particular interest in comments on the following issues:

• Whether the proposed information-collection requirements are necessary for the proper performance of the Agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information-collection and transmission techniques.

IV. Proposed Actions

OSHA is proposing to extend the information collection requirements in the Control of Hazardous Energy (Lockout/Tagout) Standard (29 CFR 1910.147). The Agency will summarize the comments submitted in response to this notice, and will include this summary in the request to OMB to extend the approval of the information collection requirements contained in the Standard * * *

Type of Review: Extension of a currently approved information-collection requirement.

Title: The Control of Hazardous Energy (Lockout/Tagout) (29 CFR 1910.147).

OMB Number: 1218-0150.

Affected Public: Business or other for-profit; not-for-profit institutions; State, local or tribal government; Federal government.

Number of Respondents: 818,532.

Frequency of Recordkeeping: Initially; annually, on occasion.

Average Time per Response: Varies from 15 seconds (.004 hour) for an employer or authorized employee to notify affected employees prior to applying, and after removing, a lockout/tagout device from a machine or equipment to 80 hours for certain employers to develop energy-control procedures.

Total Annual Hours Requested: 3,421,527.

V. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed in Washington, DC on March 5, 2004.
John L. Henshaw,
Assistant Secretary of Labor.

[FR Doc. 04-5485 Filed 3-10-04; 8:45 am]

BILLING CODE 4510-26-M